ENVIRONMENTAL PROTECTION AGENCY

[FRL-6532-4]

Agency Information Collection Activities: Proposed Collection; Comment Request; IAQ Practices in Large Buildings Survey

AGENCY: Environmental Protection Agency.

ACTION: Notice.

SUMMARY: In compliance with the Paperwork Reduction Act (44 U.S.C. 3501 et seq.), this notice announces that EPA is planning to submit the following proposed Information Collection Request (ICR) to the Office of Management and Budget (OMB): IAQ Practices in Large Buildings Survey, EPA ICR Number 1917.01. Before submitting the ICR to OMB for review and approval, EPA is soliciting comments on specific aspects of the proposed information collection as described below.

DATES: Comments must be submitted on or before April 4, 2000.

ADDRESSES: To obtain a copy of the ICR without charge, contact: Mr. Lee Salmon, Indoor Environments Division, Office of Radiation and Indoor Air, U.S. Environmental Protection Agency, Ariel Rios Building, 1200 Pennsylvania Avenue, N.W., (6609J), Washington, D.C. 20460. A copy of the ICR can also be downloaded off the Internet at http://www.epa.gov/icr; refer to EPA ICR No. 1917.01.

FOR FURTHER INFORMATION CONTACT: Mr. Lee Salmon by telephone at (202) 564-9451 or by e-mail at salmon.lee@epa.gov.

SUPPLEMENTARY INFORMATION: Affected entities: Entities potentially affected by this action are selected owners and managers of office buildings over 50,000 square feet. Survey recipients were selected from the membership lists of the Building Owners and Managers Association (BOMA) and the International Facilities Management Association (IFMA), as well as a list of commercial office buildings greater than 50,000 square feet generated from electronically-available tax records. Federally-owned properties were selected by EPA in consultation with the General Services Administration (GSA).

Title: IAQ Practices in Large Buildings Survey (EPA ICR No. 1917.01).

Abstract: EPA is currently working with other Federal agencies and the public, as well as with other nations, to promote effective approaches for identifying and solving indoor air quality (IAQ) problems. As part of this effort, EPA has developed a guide which addresses indoor air quality in large office buildings entitled “Building Air Quality: A Guide for Building Owners and Facility Managers” (BAQ). This document provides an extensive discussion of a wide range of potential indoor air pollutants and suggests ways in which building owners and managers can improve the indoor air quality of their buildings. As a complement to the Guide, EPA has also developed a comprehensive BAQ Action Plan, which describes an eight-step process for improving a building's indoor air quality. The BAQ Action Plan can be used to determine the current condition of an office building's indoor air quality, as well as to successfully implement good IAQ management practices.

Using a seven-page survey, EPA proposes to collect data from building owners and managers. This survey will allow EPA to determine the extent to which elements of the BAQ guidance have been incorporated into building management practices throughout the United States. The Agency also wishes to determine what barriers to implementation, if any, have been incurred by building owners and managers. These data are essential for measuring the effectiveness of EPA's efforts to encourage good IAQ management practices in large office buildings against the Agency's established Government Performance and Results Act or 1993 (GPRA) goal. By the year 2005, EPA wishes to demonstrate a five-percent increase in the number of large office buildings (i.e., over 50,000 square feet) that use good IAQ management practices.

To determine its success in achieving this goal, EPA intends to survey owners and managers of commercial and Federally-owned office buildings greater than 50,000 square feet on a variety of IAQ practices. The Agency will mail a survey and instructions for completing it to approximately 4,150 building owners and managers. Building owners/managers will be given up to 30 days to respond. At the end of this period, a follow-up letter will be sent to building owners/ managers to remind them of the survey and to encourage them to respond. The initial survey will establish a baseline for the use rate of IAQ-related practices recommended in EPA's guidance. After its completion, EPA will continue efforts to encourage large office building owners and managers to adopt the IAQ practices outlined in BAQ. EPA intends to conduct another survey in 2005 to assess changes in the use of these practices.

EPA does not expect to receive confidential information from the building owners and managers voluntarily participating in the IAQ Practices in Large Buildings Survey. However, if a respondent does consider the information submitted to be of a proprietary nature, EPA will assure its confidentiality based on the provisions of 40 CFR Part 2, Subpart B, “Confidentiality of Business Information.”

A Federal agency may not conduct or sponsor, and a person is not required to respond to, a collection of information unless it displays a currently valid OMB control number. The OMB control numbers for EPA's regulations are listed in 40 CFR Part 9 and 48 CFR Chapter 15.

The EPA would like to solicit comments to:

(i) evaluate whether the proposed collection of information is necessary for the proper performance of the functions of the agency, including whether the information will have practical utility.

(ii) evaluate the accuracy of the Agency's estimate of the burden of the proposed collection of information, including the validity of the methodology and assumptions used.

(iii) enhance the quality, utility, and clarity of the information to be collected.

(iv) minimize the burden of the collection of information on those who are to respond, including through the use of appropriate automated electronic, mechanical, or other technological collection techniques or other forms of information technology, e.g., permitting electronic submission of responses.

Burden Statement: EPA expects to mail surveys to approximately 4,150 building owners and managers. EPA expects approximately 43 percent of those surveyed to respond to this information collection request. Over three years, EPA estimates that the burden to building owners and managers who respond to the survey will be approximately 3,233 hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

This survey effort is expected to cost the respondents approximately $67,890. Respondents will incur no capital or start-up costs and the only operation and maintenance component of the survey will be the cost to photocopy the survey once completed (if desired). Burden and cost estimates for the future administration of the IAQ Practices in Large Buildings Survey will be provided at the time this ICR is renewed, but they are expected to be similar to those provided in this Federal Register notice.

Dated: January 21, 2000.
Mary T. Smith,
Director, Indoor Environments Division.

[FR Doc. 00-2481 Filed 2-3-00; 8:45 am]

BILLING CODE 6560-50-U